DEPARTMENT OF STATE

[Public Notice 8396]

Shipping Coordinating Committee; Notice of Committee Meeting

The Shipping Coordinating Committee (SHC) will conduct an open meeting at 9:30 a.m. on Wednesday, August 14, 2013, in Room 5-0624 of the United States Coast Guard Headquarters Building, 2100 2nd Street SW., Washington, DC 20593. The primary purpose of the meeting is to prepare for the thirty-ninth Session of the International Maritime Organization's (IMO) Facilitation Committee to be held at the IMO Headquarters, United Kingdom, October 20-24, 2014.

The agenda items to be considered include:

—Decisions of other IMO bodies

—Consideration and adoption of amendments to mandatory instruments

—General review of the Convention, including harmonization with other international instruments

—E-business possibilities for the facilitation of maritime traffic:

A. electronic means for the clearance of ships, cargo and passengers

B. electronic access to, or electronic versions of, certificates and documents required to be carried on ships

—Formalities connected with the arrival, stay and departure of persons:

A. shipboard personnel

B. stowaways

C. illegal migrants

D. persons rescued at sea

—Ensuring security in and facilitating international trade:

A. shore leave and access to ships

B. trade recovery

—Ship/port interface

—Technical Co-operation activities related to facilitation of maritime traffic

—Relations with other organizations

—Application of the Committee's Guidelines

—Work programme

—Election of Chairman and Vice-Chairman for 2015

—Any other business

Members of the public may attend this meeting up to the seating capacity of the room. To facilitate the building security process, and to request reasonable accommodation, those who plan to attend should contact the meeting coordinator, Mr. David Du Pont, by email at David.A.DuPont@uscg.mil, by phone at (202) 372-1497, by fax at (202) 372-1928, or in writing at Commandant (CG-REG), U.S. Coast Guard, 2100 2nd Street SW Stop 7126, Washington, DC 20593-7126 not later than August 6, 2013, 7 days prior to the meeting. Requests made after August 6, 2013, might not be able to be accommodated. Please note that due to security considerations, two valid, government issued photo identifications must be presented to gain entrance to the Headquarters building. The Headquarters building is accessible by taxi and privately owned conveyance (public transportation is not generally available). However, parking in the vicinity of the building is extremely limited.

For members of the public that would like to participate, but are unable to attend this meeting the Coast Guard will provide a teleconference option. To participate by phone, contact the meeting coordinator (details above) to obtain teleconference information. Note the number of teleconference lines is limited and will be available on a first-come, first-served basis.

Additional information regarding this and other IMO SHC public meetings may be found at: www.uscg.mil/imo. Information specific to the Facilitation Committee may be found at www.uscg.mil/imo/fal and www.uscg.mil/hq/cg5/cg523/imo.

Dated: July 23, 2013.
Marc Zlomek,
Executive Secretary, Shipping Coordinating Committee, Department of State.

[FR Doc. 2013-18169 Filed 7-26-13; 8:45 am]

BILLING CODE 4710-09-P